DEPARTMENT OF AGRICULTURE

Risk Management Agency

Notice of Intent To Seek Approval To Conduct an Information Collection

AGENCY: Risk Management Agency, USDA.

ACTION: Notice and request for comments.

SUMMARY: In accordance with the Paperwork Reduction Act of 1995, this notice announces the intention of the Risk Management Agency to request approval for information collections in support of the agency's mission to improve the economic stability of agriculture through a sound system of crop insurance. Approval will be requested for generic information collection projects.

DATES: Written comments on this notice will be accepted until close of business, August 9, 2002.

ADDRESSES: Interested persons are invited to submit written comments to Virginia Guzman, United States Department of Agriculture (USDA), Research and Evaluation Division, Federal Crop Insurance Corporation, Risk Management Agency, 6501 Beacon Drive, Mail Stop 813, Kansas City, MO 64133. Written comments may also be submitted electronically to: RMARED_PRA@rm.fcic.usda.gov.

FOR FURTHER INFORMATION CONTACT: Virginia Guzman or David Fulk, at the Kansas City, MO address listed above, telephone (816) 926-6343.

SUPPLEMENTARY INFORMATION: Title: Agricultural Risk Management, Research and Evaluation, Generic Information Collections.

OMB Number: 0563-NEW.

Type of Request: New Information Collection.

Abstract: The Risk Management Agency intends to seek information in order to fulfill its mission to improve the economic stability of agriculture through a sound system of crop insurance. The Risk Management Agency requires input from agricultural producers, producer groups, academia and the insurance industry in order to maintain and expand existing crop insurance products, develop new risk management tools, conduct research into a variety of risk management issues and to evaluate the progress of research projects. The information collections will include: the utilization of written requests for information; questionnaires or surveys; listening sessions or focus groups; requests for applications and status reports. Information collections are necessary to provide input and data on the performance of existing risk management products, to access the risk management needs of agricultural producers, to access the feasibility of new risk management products and tools, to obtain the information necessary for the development of partnership agreements and to obtain information on the status of research agreements and projects. We are asking the Office of Management and Budget (OMB) to approve this information collection activity for 3 years.

The purpose of this notice is to solicit comments from the public concerning the information collection activities. These comments will help us:

(1) Evaluate whether the proposed collection of information is necessary for the proper performance of the functions of the agency, including whether the information will have practical utility;

(2) Evaluate the accuracy of the agency's estimate of the burden of the proposed collection information;

(3) Enhance the quality, utility, and clarity of the information to be collected; and

(4) Minimize the burden of the collection of information on those who are to respond, through use, as appropriate, of automated, electronic, mechanical, or other collection technologies, e.g. permitting electronic submission of responses.

Estimate of Burden: The public reporting burden for this collection of information is estimated to average 48 minutes per response for a total burden of 15,107 hours.

Respondents/Affected Entities: Individuals and businesses involved in the production of agricultural production and livestock; individuals and businesses in the crop insurance industry; academia, including individuals or representatives of universities and colleges who are involved in research and issues of American agriculture and risk management.

Estimated annual number of respondents: 18,884.

Estimated annual number of responses: 18,884 or 1 per respondent.

Estimated total annual burden on respondents: 15,107.

All responses to this notice will be summarized and included in the request for OMB approval. All comments will also become a matter of public record.

Signed in Washington, DC, on May 31, 2002.
Ross J. Davidson, Jr.,
Manager, Federal Crop Insurance Corporation.

[FR Doc. 02-14406 Filed 6-7-02; 8:45 am]

BILLING CODE 3410-08-P